DEPARTMENT OF THE INTERIOR

National Park Service

National Park System Advisory Board; Meeting

AGENCY: National Park Service, Interior.

ACTION: Notice of Meeting.

Notice is hereby given in accordance with the Federal Advisory Committee Act, 5 U.S.C. Appendix, that the National Park System Advisory Board will meet June 12, 2002, in the Chesapeake Room, of the Swissôtel Washington The Watergate, 2650 Virginia Avenue, NW, Washington, DC. The Board will convene at 8 a.m., and adjourn at 5:30 p.m. During the morning session, National Park Service Director Fran Mainella will address the Board, followed by an orientation session for new members, and the Board's consideration of recommendations regarding the National Park Service process for making determinations of cultural affiliations. In the afternoon, the Board will discuss next steps in implementing the Board's report Rethinking the National Parks for the 21st Century.

Other officials of the National Park Service and the Department of the Interior may address the Board, and other miscellaneous topics and reports may be covered. The order of the agenda may be changed, if necessary, to accommodate travel schedules or for other reasons.

Due to the unexpected cancellation of the original meeting space and the additional time required to locate an alternate site, this notice could not be published at least 15 days prior to the meeting date. The National Park Service regrets this delay, but is compelled to hold the meeting as scheduled because of the significant sacrifice rescheduling would require of Board members who have adjusted their schedules to accommodate the proposed meeting date.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service, 1849 C Street, NW, Washington, DC 20240 (telephone 202-208-7456).

Draft minutes of the meeting will be available for public inspection about 12 weeks after the meeting, in room 2414, Main Interior Building, 1849 C Street, NW, Washington, DC.

Dated: June 3, 2002.
Loran Fraser,
Chief, Office of Policy, National Park Service.

[FR Doc. 02-14388 Filed 6-6-02; 8:45 am]

BILLING CODE 4310-70-P